Proclamation 10021 of April 30, 2020

National Physical Fitness and Sports Month, 2020

By the President of the United States of America

A Proclamation

During National Physical Fitness and Sports Month, we encourage all Americans to maintain more physically active and healthy lifestyles, which can help improve our overall well-being. We also recognize the important role that sports play in American society and the ways sports help unite us. Through friendly competition, the development of lifelong skills and character traits, and memorable times spent with family and friends, sports help bring communities together, entertain us, and improve our health.

As our Nation continues to practice social distancing during the coronavirus pandemic, regular physical activity at home can be an effective way to improve and maintain physical fitness. Even during this difficult time, Americans should strive to engage in the recommended amounts of physical activity—at least 60 minutes a day of moderate-to-vigorous physical activity for youth ages 6-17, including aerobic activities and activities that strengthen muscles and bones, and at least 150 minutes a week of moderate intensity activity, plus two or more days a week of muscle-strengthening activities, for adults. In addition, adults 65 years and older should do multicomponent physical activities that include balance training, such as standing on one foot. Even as we social distance, we can do jumping jacks or push-ups, household chores, tend our lawns and gardens, and engage in numerous other activities that promote a healthy and active lifestyle. The United States Department of Health and Human Services' Move Your Way campaign has tools and resources to help Americans of all ages and abilities live healthier lives through increased physical activity.

As our country defeats the coronavirus, sports will once again help unite us as a Nation. Participation in sports instills values such as teamwork, discipline, and leadership that transcend the field or court and help everyone, especially our youth, flourish in life. Last September, we launched the National Youth Sports Strategy, which awarded $6.7 million in grants to help increase youth sports participation. This bold initiative is the first Federal roadmap designed to unify the American youth sports culture around a shared vision that one day all youth will have the opportunity to play sports—regardless of race, ethnicity, sex, ability, or zip code. I have also appointed more than 20 youth sports advocates to the President's Council on Sports, Fitness, and Nutrition. These individuals have been encouraging families to stay active even while they are staying at home during the coronavirus pandemic. Once sports programming resumes, this Council will continue to ensure that children and youth have access to safe places to play sports, encouraging healthier lifestyles. By providing a solid foundation for participation in safe, fun, inclusive, and accessible sporting opportunities, our children and youth will be better suited to thrive.

This month, I urge all Americans to invest in the health of our great Nation by incorporating physical activity into their daily lives and by promoting the positive effects of sports on youth development. Through regular physical activity, we can achieve our shared goal of living healthier lives.

NOW, THEREFORE, I, DONALD J. TRUMP, President of the United States of America, by virtue of the authority vested in me by the Constitution and the laws of the United States, do hereby proclaim May 2020 as National Physical Fitness and Sports Month. I call upon the people of the United States to make physical activity and sports participation a priority in their lives.

IN WITNESS WHEREOF, I have hereunto set my hand this thirtieth day of April, in the year of our Lord two thousand twenty, and of the Independence of the United States of America the two hundred and forty-fourth.

[FR Doc. 2020-09738

Filed 5-4-20; 11:15 am]

Billing code 3295-F0-P